CONSUMER PRODUCT SAFETY COMMISSION

Notice of Availability of a Statement of Policy: Testing and Certification of Lead Content in Children's Products

AGENCY: Consumer Product Safety Commission.

ACTION: Notice of availability.

SUMMARY: The Consumer Product Safety Commission (Commission) is announcing the availability of a document titled, “Statement of Policy: Testing and Certification of Lead Content in Children's Products.” The document provides guidance on complying with the Consumer Product Safety Improvement Act (CPSIA).

ADDRESSES: The Statement of Policy is available from the Commission's Web site at: http://www.cpsc.gov/about/cpsia/leadpolicy.pdf. Copies may also be obtained from the Consumer Product Safety Commission, Office of the Secretary, Room 502, 4330 East-West Highway, Bethesda, Maryland 20814; 301-504-7923.

FOR FURTHER INFORMATION CONTACT: Hyun Sun Kim, Office of the General Counsel, Consumer Product Safety Commission, 4330 East West Highway, Bethesda, MD 20814; telephone (301) 504-7632; hkim@cpsc.gov.

SUPPLEMENTARY INFORMATION:

The CPSIA was enacted on August 14, 2008 (Pub. L. 110-314). Section 101(a) of CPSIA provides that products designed or intended primarily for children 12 years old and younger that contain more than 600 ppm of lead (as of February 10, 2009), 300 ppm of lead (as of August 14, 2009); or 100 ppm after three years (as of August 14, 2011), unless the Commission determines that it is not technologically feasible to have this lower limit, are considered to be banned hazardous substances under the Federal Hazardous Substances Act (FHSA). Unless granted a specific exclusion or determination, products and materials used to make children's products are subject to the lead limits and also to the testing and certification requirements of section 14(a) of the Consumer Product Safety Act (CPSA), as amended by section 102(a) of the CPSIA.

The Commission has prepared a document titled, “Statement of Policy: Testing and Certification of Lead Content in Children's Products.” The document provides guidance on the testing and certification of children's products for compliance with the CPSIA. The Statement of Policy is available on the Commission's Web site at http://www.cpsc.gov/about/cpsia/leadpolicy.pdf and from the Commission's Office of the Secretary at the location listed in the ADDRESSES section of this notice.

Dated: October 23, 2009.
Todd A. Stevenson,
Secretary, Consumer Product Safety Commission.

[FR Doc. E9-26080 Filed 10-28-09; 8:45 am]

BILLING CODE 6355-01-P